DEPARTMENT OF COMMERCE

National Oceanic and Atmospheric Administration

RIN 0648-XA189

Endangered and Threatened Species; Take of Anadromous Fish

AGENCY: National Marine Fisheries Service (NMFS), National Oceanic and Atmospheric Administration (NOAA), Commerce.

ACTION: Notice of receipt of application for a new scientific research and enhancement permit, notice of public meetings, and request for comment.

SUMMARY: Notice is hereby given that NMFS has received an application for a scientific research and enhancement permit (permit 14868) relating to salmon listed under the Endangered Species Act (ESA). The application includes a Hatchery and Genetic Management Plan (HGMP) that provides detailed information regarding the proposed enhancement activities. This document serves to notify the public of the availability of the permit application and HGMP for review and comment. The applications and related documents may be viewed online at: http://swr.nmfs.noaa.gov/sjrrestorationprogram/salmonreintroduction.htm. These documents are also available upon written request or by appointment by contacting NMFS by phone (916) 930-3600, fax (916) 930-3629.

DATES: Written comments on the permit applications must be received at the appropriate address or fax number (see ADDRESSES) no later than 5 p.m. Pacific standard time on March 7, 2011.

NMFS will conduct three public scoping meetings in order to provide information and solicit comments for the preparation of the permit. The meetings will be held on: February 3, 2011, at the Chico Masonic Family Center, 1110 West East Avenue Chico, CA 95926 from 5 p.m.-7 p.m., Pacific Time; February 7, 2011, at the Fresno Metropolitan Flood Control District Board Room, 5469 E. Olive Ave., Fresno, CA 93727 from 5 p.m.-7 p.m., Pacific Time; and February 8, 2011, at 830 6th Street, Los Banos, CA 93635-4214 from 5 p.m. to 7 p.m.

ADDRESSES: Written comments on these applications should be submitted to the Protected Resources Division, NMFS, 650 Capitol Mall, Suite 5-100, Sacramento, CA 9581. Comments may also be submitted via fax to (916) 930-6329 or by e-mail to SJRSpring.Salmon@noaa.gov.

FOR FURTHER INFORMATION CONTACT: Elif Fehm-Sullivan, Sacramento, CA (ph: 916-930-3723, e-mail: elif.fehm-sullivan@noaa.gov).

SUPPLEMENTARY INFORMATION:

Species Covered in This Notice

This notice is relevant to federally threatened Central Valley spring-run Chinook salmon (Oncorhynchus tshawytscha).

Authority

Scientific research and enhancement permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

On September 30, 2010, the U.S. Fish and Wildlife Service (USFWS) submitted an application and supporting documents to NMFS for a section 10(a)(1)(A) permit (permit 14868). USFWS is requesting a 7-year permit to collect Central Valley spring-run Chinook salmon, for the purposes of reintroduction into the San Joaquin River. Multiple life stages would be collected, including eggs, fry, smolts, and adults using various collection methods (backpack electrofisher, red pumping, seining, dip-net) which would then be transported to a hatchery for artificial propagation; and/or they or their progeny will be released into the San Joaquin River and monitored for survival. The overall objective is to collect and reintroduce multiple life stages of spring-run Chinook salmon to develop a naturally-reproducing, self-sustaining population of spring-run Chinook salmon in the San Joaquin River. The target for the experimental population for spring-run Chinook salmon is a minimum annual return of 500 adults by 2019.

The intent is to capture varied and desired genetic and phenotypic characteristics of the fish, and therefore increase the likelihood that the reintroduction of spring-run Chinook salmon to the San Joaquin River would be successful.

The USFWS has proposed measures to minimize adverse impact to the population viability of the Evolutionary Significant Unit and/or the populations within each potential source stream. Finally, the reintroduction and management activities in the restored San Joaquin River must not adversely affect the experimental population and their progeny within the mainstem San Joaquin River.

Collections would occur at all life stages of development: Eggs, fry, smolts, and adults in order to reduce the effect to the existing population and to increase the chances of survival. The propagation and development of the fish at the hatchery involves genetic determination and tracking for both phenotypic and genotypic expressions, and would help ensure survival and re-establishment of a naturally producing, self-sustaining population of spring-run Chinook salmon in the San Joaquin River. The annual level of take will be proposed based on current population status as evaluated against population viability criteria (Lindley et al. 2007).

The project has the following five objectives: (1) To implement the stipulation of settlement, Natural Resource Defense Council, et al. v. Rodgers, et al., (2) to collect natural and hatchery-origin spring-run Chinook salmon juvenile and adults for reintroduction efforts in the San Joaquin River, (3) to collect natural and hatchery-origin spring-run Chinook salmon eggs and juveniles for the purpose of developing a seed stock for a conservation hatchery program, (4) to increase productivity, intra-population diversity and promote local adaptation, and (5) use spring-run Chinook salmon demographic, biological, and genetic data collected throughout the reintroduction process to develop an adaptive management-based management plan for the species to promote recovery of the Central Valley spring-run Chinook salmon evolutionarily significant unit.

This notice is provided pursuant to section 10(c) of the ESA. NMFS will evaluate the application, associated documents, and comments submitted thereon to determine whether the application meets the requirements of section 10(a)(1)(A) of the ESA. If it is determined that the requirements are met, a permit will be issued to USFWS for the purpose of collecting ESA-listed spring-run Chinook salmon and carrying out the research and enhancement program. NMFS will publish a notice of its final action in the Federal Register.

Dated: January 31, 2011.
Therese Conant,
Chief, Endangered Species Division, Office of Protected Resources, National Marine Fisheries Service.

[FR Doc. 2011-2533 Filed 2-3-11; 8:45 am]

BILLING CODE 3510-22-P